DEPARTMENT OF HOUSING AND URBAN DEVELOPMENT

[Docket No. FR-5909-N-36]

30-Day Notice of Proposed Information Collection: Border Community Capital Initiative and Semi-Annual Reporting

AGENCY: Office of the Chief Information Officer, HUD.

ACTION: Notice.

SUMMARY: HUD is seeking approval from the Office of Management and Budget (OMB) for renewal of the information collection described below. In accordance with the Paperwork Reduction Act, HUD is requesting comment from all interested parties on the proposed collection of information. The purpose of this notice is to allow for 60 days of public comment.

DATES: Comments Due Date: June 10, 2016.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone 202-402-3400 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone 202-402-3400. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for renewal of the information collection described in Section A. The Federal Register notice that solicited public comment on the information collection for a period of 60 days was published on March 4, 2016 at 81 FR 11584.

A. Overview of Information Collection

Title of Information Collection: Border Community Capital Initiative Application and Semi-Annual Reporting.

OMB Control Number: 2506-0196.

Type of Request: Extension without change of a currently approved collection.

Form Number: OMB 83-1 SF 424; HUD 424CB; HUD 424-CBW; SF-LLL; HUD 2880; HUD 2990; HUD 2991; HUD 2993; HUD 2994A; HUD 27061; and HUD 27300.

Description of the need for the information and proposed use: The Border Community Capital Initiative (“Border Initiative”) is a collaborative effort among three federal agencies—the Department of Housing and Urban Development (HUD), the Department of the Treasury—Community Development Financial Institutions Fund (CDFI Fund) and the Department of Agriculture—Rural Development (USDA-RD). The Initiative's goal is to increase access to capital for affordable housing, business lending and community facilities in the chronically underserved and undercapitalized U.S./Mexico border region. Specifically, it will provide direct investment and technical assistance to community development lending and investing institutions that focus on affordable housing, small business and community facilities to benefit the residents of colonias.

HUD, USDA-RD and the CDFI Fund have all identified the lack of capacity among organizations serving the colonias and similar persistent poverty communities as a limiting factor in the effectiveness of federal programs. Inconsistent availability of limited public funding in any one region or community plays a role in this, because organizations specializing in affordable housing, small business support and community facilities cannot sustain themselves and grow. All of the agencies recognize that the targeted border communities and populations receive insufficient services because they lack organizations with the capacity to effectively respond to community needs. Conversely, higher-capacity organizations working along the border consistently cite lack of access to capital as a major barrier to expansion.

The Border Initiative focuses on improving colonias communities, creating asset building opportunities for colonias residents by helping local financial institutions improve their capacity to raise capital, and to lend and invest it in their communities. Strengthening local community development lenders and investors will also widen the channels through which larger private institutions and federal agencies can reach potential homeowners, renters, business owners, facilities operators and service providers who need their support.

The list of federally recognized Indian tribes can be found in the notice published by the Department of the Interior on Friday, January 29, 2016 (Federal Register/Vol. 81, Federal Register/Vol. 81, No. 19.

Respondents (i.e. affected public): Public.

Estimated Number of Respondents: 50.

Estimated Number of Responses: 50.

Frequency of Response: Once.

Average Hours per Response: .75.

Total Estimated Burdens: 37.50.

| Estimated number of respondents | Annual responses | Estimated number of responses | Burden per response | Total annual hours | Hourly rate ** | Burden cost per instrument
HUD-424CB | 50 | 1 | 50 | .20 | 10.00 | 25.00 | 250.00
HUD-424CBW | 50 | 1 | 50 | .20 | 10.00 | 25.00 | 250.00
HUD-2880 | 50 | 1 | 50 | .05 | 2.50 | 25.00 | 62.50
HUD-2990 | 50 | 1 | 50 | .05 | 2.50 | 25.00 | 62.50
HUD-2991 | 50 | 1 | 50 | .05 | 2.50 | 25.00 | 62.50
HUD-2993 | 50 | 1 | 50 | .05 | 2.50 | 25.00 | 62.50
HUD-2994A | 50 | 1 | 50 | .05 | 2.50 | 25.00 | 62.50
HUD-27061 | 50 | 1 | 50 | .05 | 2.50 | 25.00 | 62.50
HUD-27300 | 50 | 1 | 50 | .05 | 2.50 | 25.00 | 62.50
Total |  |  | 50 | .75 | 37.50 |  | $937.50
Annualized cost @$25.00.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

Authority: Section 3507 of the Paperwork Reduction Act of 1995, 44 U.S.C. Chapter 35.

Dated: May 5, 2016.
Anna P. Guido,
Department Paperwork Reduction Act Officer, Office of the Chief Information Officer.

[FR Doc. 2016-11135 Filed 5-10-16; 8:45 am]

BILLING CODE 4210-67-P